Proclamation 10441 of September 8, 2022

National Days of Prayer and Remembrance, 2022

By the President of the United States of America

A Proclamation

On September 11, 2001, an act of deliberate evil ripped 2,977 innocent lives from this world in a horrifying attack on our Nation. For 21 years, children have grown up without parents. Parents have grieved lost children. Husbands and wives have had to push forward without their partners by their sides. Families across our country have been left to mark birthdays and milestones with a black hole in their hearts and an empty chair at their tables.

In the week after the attacks, as we first observed a National Day of Prayer and Remembrance, Americans banded together, consoled one another, and prayed for strength. We saw a true sense of national unity—in our shared resolve, in survivors' resilience, and in a new generation's readiness to defend and serve our Nation. In the years since, in New York, Shanksville, at the Pentagon, and all across our country, we have consecrated that day of observance, reflecting on the loved ones we lost, the heroes who rushed into harm's way, and the courage of so many families who lost a piece of their soul but somehow still found a way to get up and keep going. Their strength is an inspiration.

As the quote from Virgil inscribed on the 9/11 Memorial at Ground Zero reminds us: “No day shall erase you from the memory of time.” Each year, we have renewed our sacred vow: Never forget. Just weeks ago, we once again demonstrated our resolve and capacity to defend our Nation against threats by delivering justice to the emir of al-Qaeda—a man deeply involved in the terrorist group's activities, including 9/11 and countless other deadly attacks against Americans. Thanks to the extraordinary persistence and patriotism of our intelligence and counterterrorism communities, the courageous families who lost so much on that searing September day in 2001 will hopefully find some measure of closure.

On these National Days of Prayer and Remembrance, we come together to not only honor the memories of those lost but to build a future worthy of their dreams and to find light in darkness and strength in broken places. The great and defining truth about America is this: We do not break. We never give in. We never back down.

NOW, THEREFORE, I, JOSEPH R. BIDEN JR., President of the United States of America, by virtue of the authority vested in me by the Constitution and the laws of the United States, do hereby proclaim September 9, 2022, through September 11, 2022, as National Days of Prayer and Remembrance. I ask that the people of the United States honor the victims of September 11, 2001 and their loved ones with prayer, contemplation, memorial services and visits, bells, candlelight vigils, and other activities. I invite people around the world to join. I call on the citizens of our Nation to give thanks for our many freedoms and blessings, and I invite all people of faith to join me in asking for God's continued guidance, mercy, and protection.

IN WITNESS WHEREOF, I have hereunto set my hand this eighth day of September, in the year of our Lord two thousand twenty-two, and of the Independence of the United States of America the two hundred and forty-seventh.

[FR Doc. 2022-19876

Filed 9-12-22; 8:45 am]

Billing code 3395-F2-P